NATIONAL AERONAUTICS AND SPACE ADMINISTRATION

[Notice (09-071)]

Review of U.S. Human Space Flight Plans Committee; Meeting

AGENCY: National Aeronautics and Space Administration.

ACTION: Notice of meeting.

SUMMARY: In accordance with the Federal Advisory Committee Act, Public Law 92-463, as amended, the National Aeronautics and Space Administration announces a meeting of the Review of U.S. Human Space Flight Plans Committee. This is a contingency public meeting if required by the committee and is subject to cancellation on short notice. For the most up-to-date information, refer to the Committee Web site (http://hsf.nasa.gov) or contact the NASA Designated Federal Official by e-mail (philip.mcalister@nasa.gov) or phone (202-358-0712).

DATES: Monday, August 24, 2009, 1 p.m.-5:30 p.m.

ADDRESSES: JW Marriott Hotel, Grand Ballroom, 1331 Pennsylvania Avenue, Washington, DC 20004, phone: 202-626-6906.

FOR FURTHER INFORMATION CONTACT: Mr. Philip R. McAlister, Office of Program Analysis and Evaluation, National Aeronautics and Space Administration, Washington, DC 20546, at 202-358-0712.

SUPPLEMENTARY INFORMATION: The agenda topics for the meeting include Committee deliberations on the Final Report. The meeting will be open to the public up to the seating capacity of the room. It is imperative that the meeting be held on this date to accommodate the scheduling priorities of the key participants.

Dated: August 4, 2009.
P. Diane Rausch,
Advisory Committee Management Officer, National Aeronautics and Space Administration.

[FR Doc. E9-19003 Filed 8-6-09; 8:45 am]

BILLING CODE P